DEPARTMENT OF TRANSPORTATION

Surface Transportation Board

[STB Docket No. MC-F-20982]

Americanos U.S.A., L.L.C., et al.—Acquisition—Autobuses Adame, Inc.

AGENCY: Surface Transportation Board.

ACTION: Notice tentatively approving finance transaction.

SUMMARY: Americanos U.S.A., L.L.C. (Americanos), a motor passenger carrier, and Americanos Acquisition Co., L.L.C. (Acquisition), a noncarrier, seek approval under 49 U.S.C. 14303 for acquisition, by either Americanos or Acquisition, of the operating authority and certain other properties of Autobuses Adame, Inc. (Adame), a motor passenger carrier. Additionally, Sistema Internacional de Transporte de Autobuses, Inc. (SITA), Greyhound Lines, Inc. (Greyhound), and Laidlaw, Inc. (Laidlaw), through their control of Americanos and Acquisition, seek approval to acquire control of the operating rights and properties of Adame and to continue in control of Acquisition if and when it becomes a motor passenger carrier. Persons wishing to oppose the application must follow the rules under 49 CFR 1182.5 and 1182.8. The Board has tentatively approved the transaction, and, if no opposing comments are timely filed, this notice will be the final Board action.

DATES: Comments must be filed by December 3, 2001. Applicants may file a reply by December 18, 2001. If no comments are filed by December 3, 2001, this notice is effective on that date.

ADDRESSES: Send an original and 10 copies of any comments referring to STB Docket No. MC-F-20982 to: Surface Transportation Board, Office of the Secretary, Case Control Unit, 1925 K Street, NW., Washington, DC 20423-0001. In addition, send one copy of comments to applicants' representative: Fritz R. Kahn, 1920 N Street, NW. (8th floor), Washington, DC 20036-1601.

FOR FURTHER INFORMATION CONTACT: Beryl Gordon, (202) 565-1600. [TDD for the hearing impaired: 1-800-877-8339.]

SUPPLEMENTARY INFORMATION: Americanos (MC-309813) is authorized to conduct regular-route passenger operations between certain points in the Southwestern States, focusing particularly on the Mexican border crossing points at El Paso, Laredo, and McAllen, TX. Americanos and Acquisition are controlled by SITA, which, in turn is controlled by Greyhound. Laidlaw, a noncarrier, indirectly controls Greyhound,¹ which holds nationwide operating authority (MC-1515).² SITA holds no operating authority but also controls two other motor passenger carriers: Autobuses Amigos, L.L.C. (MC-340462), operating between Brownsville and Houston, TX; and Gonzalez, Inc., d/b/a Golden State Transportation (MC-173837), operating between Mexican border points and points in various Western States. Adame holds operating authority (MC-237411) to conduct regular-route passenger operations between the Mexican border points at Roma, Hidalgo, and Brownsville, TX, and such cities as Houston, TX, Chamblee, GA, Charlotte, NC, Wilson, NC, Tallahassee, FL, and Immokalee, FL.

¹ In addition to Greyhound (Delaware), Laidlaw (Canada) controls (through its subsidiaries Laidlaw Investments, Ltd. (Ontario) and Laidlaw Transportation, Inc. (Delaware)) Hotard Coaches, Inc. (Louisiana) (MC-143881), Coastliner d/b/a Mississippi Coast Lines (Mississippi) (MC-14388), Laidlaw Transit, Inc. (Delaware) (MC-161299), Chatham Coach Lines, Inc. (Delaware) (MC-172751), Willett Motor Coach Co. (New Jersey) (MC-16073), and (through noncarrier Laidlaw Transit Holdings, Inc. (Delaware)) Laidlaw Transit Services, Inc. (Delaware) (MC-163344), and Safe Ride Services, Inc. (Arizona) (MC-246193). In addition Laidlaw controls, through Laidlaw Transit Ltd. (Ontario) (MC-102189), a number of other motor passenger carriers conducting special and charter operations in the United States, including: (a) Greyhound Canada Transportation Corp. (Ontario) (MC-304126), which also controls Voyageur Corp. (Canada) (MC-360339); and (b) Gray Line of Vancouver Holdings Ltd. (Canada) (MC-357855), The Gray Line of Victoria Ltd. (Canada) (MC-380234), J. I. DeNure (Chatham) Limited (Canada) (MC-111143 (Sub-No. 1)), and Penetang-Midland Coach Lines Limited (Canada) (MC-139953 and MC-139953 (Sub-No. 1)).

² Greyhound also controls several regional motor passenger carriers: Carolina Coach Company, Inc. (MC-13300), operating in Delaware, Maryland, North Carolina, Pennsylvania, and Virginia; Continental Panhandle Lines, Inc. (MC-8742), operating in Kansas, Oklahoma, and Texas; Peoria Rockford Bus Lines, L.L.C. (MC-66810), operating in Illinois; Texas, New Mexico & Oklahoma Coaches, Inc. (MC-61120), operating in Colorado, Kansas, New Mexico, Oklahoma, and Texas; Valley Transit Company, Inc. (MC-74), operating in Texas; and Vermont Transit Co., Inc. (MC-45626), operating in Maine, Massachusetts, New York, and Vermont.

Acquisition has entered into an agreement to purchase the operating assets of Adame, including its operating authority. At some point at or before the time of closing, it is expected that Acquisition will be merged with Americanos, leaving Americanos as the surviving corporation. However, if the merger has not been completed at the time of closing, Acquisition will be the entity acquiring Adame's properties. Accordingly, authority is sought to permit either Acquisition or Americanos to be the purchaser, and to permit the merger of Acquisition and Americanos, if necessary.

Under 49 U.S.C. 14303(b), we must approve and authorize a transaction that we find consistent with the public interest, taking into consideration at least: (1) The effect of the proposed transaction on the adequacy of transportation to the public; (2) the total fixed charges that result; and (3) the interest of affected carrier employees.

Applicants have submitted the information required by 49 CFR 1182.2, including information to demonstrate that the proposed transactions are consistent with the public interest under 49 U.S.C. 14303(b). Specifically, applicants have shown that the proposed transaction will have a positive effect on the adequacy of transportation to the public and will result in no increase in fixed charges. As to the effect on employees (see 49 CFR 1182.2(a)(7)), applicants state that the proposed transaction will have no significant adverse effect on employees. Applicants state that Americanos will be able to offer employment to qualified Adame employees, who they say will be needed to operate the expanded operations of the combined entities.

On the basis of the application, we find that the proposed transactions are consistent with the public interest and should be authorized. If any opposing comments are timely filed, this finding will be deemed vacated, and unless a final decision can be made on the record as developed, a procedural schedule will be adopted to reconsider the application. See 49 CFR 1182.6(c). If no opposing comments are filed by the expiration of the comment period, this decision will take effect automatically and will be the final Board action.

Board decisions and notices are available on our website at www.stb.dot.gov.

This decision will not significantly affect either the quality of the human environment or the conservation of energy resources.

It is ordered:

1. The proposed acquisition is approved and authorized, subject to the filing of opposing comments.

2. The proposed merger and the resulting acquisition and/or continuance in control, if necessary, are approved and authorized, subject to the filing of opposing comments.

3. If timely opposing comments are filed, the findings made in this decision will be deemed to be vacated.

4. This decision will be effective on December 3, 2001 unless timely opposing comments are filed.

5. A copy of this notice will be served on: (1) The U.S. Department of Transportation, Federal Motor Carrier Safety Administration, 400 7th St., SW., Room 8214, Washington, DC 20590; (2) the U.S. Department of Justice, Antitrust Division, 10th Street & Pennsylvania Avenue, NW., Washington, DC 20530; and (3) the U.S. Department of Transportation, Office of the General Counsel, 400 7th Street, SW., Washington, DC 20590.

Decided: October 15, 2001.
By the Board, Chairman Morgan, Vice Chairman Clyburn, and Commissioner Burkes.
Vernon A. Williams,
Secretary.

[FR Doc. 01-26435 Filed 10-18-01; 8:45 am]

BILLING CODE 4915-00-P